ENVIRONMENTAL PROTECTION AGENCY

40 CFR Part 271

[FRL-7509-9]

Nebraska: Final Authorization of State Hazardous Waste Management Program Revision

AGENCY: Environmental Protection Agency (EPA).

ACTION: Withdrawal of immediate final rule.

SUMMARY: EPA is withdrawing the immediate final rule for Nebraska: Final Authorization of State Hazardous Waste Management Program Revision published on April 10, 2003, which authorized changes to Nebraska's hazardous waste program under the Resource Conservation and Recovery Act (RCRA). EPA stated in the immediate final rule that if EPA received written comments that oppose this authorization during the comment period, EPA would publish a timely notice of withdrawal in the Federal Register. Since EPA did receive comments that oppose this authorization, EPA is withdrawing the immediate final rule. EPA will address these comments in a subsequent final action based on the proposed rule also published on April 10, 2003, at 68 FR 17576.

DATES: As of June 9, 2003, EPA withdraws the immediate final rule published on April 10, 2003, at 68 FR 17553.

FOR FURTHER INFORMATION CONTACT: Lisa V. Haugen, U.S. EPA Region 7, ARTD/RESP, 901 North 5th Street, Kansas City, KS 66101, phone number: (913) 551-7877 or haugen.lisa@epa.gov.

SUPPLEMENTARY INFORMATION: Because EPA received written comments that oppose this authorization, EPA is withdrawing the immediate final rule for Nebraska: Final Authorization of State Hazardous Waste Management Program Revision published on April 10, 2003, at 68 FR 17553, which authorized changes to Nebraska's hazardous waste rules. EPA stated in the immediate final rule that if EPA received written comments that oppose this authorization during the comment period, EPA would publish a timely notice of withdrawal in the Federal Register. Since EPA received comments that oppose this action, today EPA is withdrawing the immediate final rule. EPA will address the comments received during the comment period in a subsequent final action based on the proposed rule also published on April 10, 2003. EPA will not provide for additional public comment during the final action.

James B. Gulliford,
Regional Administrator, Region 7.

[FR Doc. 03-14458 Filed 6-6-03; 8:45 am]

BILLING CODE 6560-50-U